DEPARTMENT OF EDUCATION

Submission for OMB Review; Comment Request

Correction

In notice document 01-17770 beginning on page 37216 in the issue of Tuesday, July 17, 2001, make the following correction:

On page 37217, in the first column, in the DATES section, in the second and third lines, “August 16, 2000.” should read “August 16, 2001.”.

[FR Doc. C1-17770 Filed 7-30-01; 8:45 am]

BILLING CODE 1505-01-D

GENERAL SERVICES ADMINISTRATION

41 CFR Parts 101-6 and 102-3

[FPMR Amendment A-57]

RIN 3090-AG49

Federal Advisory Committee Management

Correction

In rule document 01-17350 beginning on page 37728 in the issue of Thursday, July 19, 2001, make the following correction:

On page 37729, in the third column, the the third full paragraph, in the second and third lines, “Washington Legal Foundationÿ7E v. U. . Sentencing Commission,” should read “Washington Legal Foundationÿ7E v. U.S. Sentencing Commission,”.

[FR Doc. C1-17350 Filed 7-30-01; 8:45 am]

BILLING CODE 1505-01-D

GENERAL SERVICES ADMINISTRATION

[OMB Control No. 3090-0027]

Submission for OMB Review; Comment Request Entitled GSAM, Part 542, Contract Administration, and Part 546, Quality Assurance

Correction

In notice document 01-17754, appearing on page 37232, in the issue of Tuesday, July 17, 2001, make the following corrections:

1. On page 37232, in the third column, under the heading “A. Purpose”, in the 10th line, “inspection. GSA's” should read “inspection, GSA's”.

2. On the same page, in the same column, under the heading “Obtaining Copies of Proposals”, in the 10th line, “456” should read “546”.

[FR Doc. C1-17754 Filed 7-30-01; 8:45 am]

BILLING CODE 1505-01-D

GENERAL SERVICES ADMINISTRATION

[OMB Control No. 3090-0118]

Submission for OMB Review; Comment Request Entitled Standard Form 94, Statement of Witness

Correction

In notice document 01-17756, appearing on page 37233, in the issue of Tuesday, July 17, 2001, make the following corrections:

1. On page 37233, in the second column, in the ADDRESSES section, in the 11th line, “2040” should read “20405”

2. On the same page, in the same column, under the heading “B. Annual Reporting Burden”, in the first line, “Respondetns” should read “Respondents”.

[FR Doc. C1-17756 Filed 7-30-01; 8:45 am]

BILLING CODE 1505-01-D

POSTAL RATE COMMISSION

39 CFR Part 3001

[Docket No. RM2001-3 Order No. 1319]

Rules of Practice and Procedure

Correction

In proposed rule document 01-18454 beginning on page 38602, in the issue of Wednesday, July 25, 2001, make the following correction:

On page 38603, in the third column, under the heading Request for Comments, in paragraph 1. in the second line “April 21, 2001” should read “August 21, 2001”.

[FR Doc. C1-18454 Filed 7-30-01; 8:45 am]

BILLING CODE 1505-01-D

DEPARTMENT OF TRANSPORTATION

Federal Aviation Administration

14 CFR Part 71

[Airspace Docket No. 00-ANM-17]

Revision of Class E Airspace, Roosevelt, UT

Correction

In rule document 01-16966 beginning on page 35540, in the issue of Friday, July 6, 2001, make the following corrections:

§71.1 [Corrected]

1.On page 35541, in the first column, §71.1, in the eighth line from the bottom, “fee” should read “feet”.

2. On the same page, in the same column, in the same section, in the seventh line from the bottom, “about” should read “above”.

3. On page 35541, in the same column, in the same section, in the fifth line from the bottom, “milies” should read “miles”.

4. On page 35541, in the second column, in the eighth line from the top, “109°44′52″W. ” should read “110°44′52″ W. ”.

[FR Doc. C1-16966 Filed 7-30-01; 8:45 am]

BILLING CODE 1505-01-D